DEPARTMENT OF DEFENSE

Department of the Navy

Meeting of the Chief of Naval Operations (CNO) Executive Panel; Correction

AGENCY: Department of the Navy, DOD.

ACTION: Notice of closed meeting; correction.

SUMMARY: The Department of the Navy published a document in the Federal Register of April 26, 2005, announcing a closed meeting of the CNO Executive Panel. The document contained incorrect date and time.

FOR FURTHER INFORMATION CONTACT: Lieutenant Commander Christopher Corgnati, CNO Executive Panel, 4825 Mark Center Drive, Alexandria, VA 22311, 703-681-4909.

Correction

In the Federal Register of April 26, 2005, in FR Doc. 05-8268, on page 21403, in the second column, correct the DATES caption to read:

DATES: The meeting will be held on Friday, June 24, 2005, from 9 a.m. to 10 a.m.

Dated: May 3, 2005.
I.C. Le Moyne Jr.,
Lieutenant, Judge Advocate General's Corps, U.S. Navy, Alternate Federal Register Liaison Officer.

[FR Doc. 05-9276 Filed 5-9-05; 8:45 am]

BILLING CODE 3810-FF-P